DEPARTMENT OF AGRICULTURE

Animal and Plant Health Inspection Service

7 CFR Parts 301 and 319

[Docket No. 00-067-2]

RIN 0579-AB55

Gypsy Moth; Regulated Articles

Correction

In rule document E6-11431 beginning on page 40875 in the issue of Wednesday, July 19, 2006, make the following correction:

On page 40875, in the third column, in footnote 1, in the last line, “GMChapters.htm” should read “GM_Chapters.htm”.

[FR Doc. Z6-11431 Filed 7-24-06; 8:45 am]

BILLING CODE 1505-01-D